DEPARTMENT OF ENERGY

Federal Energy Regulatory Commission

[Docket No. IC22-9-000]

Commission Information Collection Activities (Ferc-912); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection, FERC-912 (PURPA Section 210(m) Notification Requirements Applicable to Cogeneration and Small Power Production Facilities).

DATES: Comments on the collection of information are due May 31, 2022.

ADDRESSES: Send written comments on FERC-912 (IC22-9-000) to the Commission. You may submit copies of your comments by one of the following methods:

Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only Addressed to: Federal Energy Regulatory Commission, Secretary of the Commission, 888 First Street NE, Washington, DC 20426.

○ Hand (including courier) delivery to: Federal Energy Regulatory Commission, 12225 Wilkins Avenue, Rockville, MD 20852.

Instructions: FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Ellen Brown may be reached by email at DataClearance@FERC.gov, telephone at (202) 502-8663.

SUPPLEMENTARY INFORMATION:

Title: FERC-912, PURPA Section 210(m) Notification Requirements Applicable to Cogeneration and Small Power Production Facilities.

OMB Control No.: 1902-0237.

Type of Request: Three-year extension of the FERC-912 information collection requirements with no changes to the current reporting requirements.

Abstract: On 8/8/2005, the Energy Policy Act of 2005 (EPAct 2005) ¹ was signed into law. Section 1253(a) of EPAct 2005 amends Section 210 of the Public Utility Regulatory Policies Act of 1978 (PURPA) by adding subsection “(m),” that provides, based on a specified showing, for the termination and subsequent reinstatement of an electric utility's obligation to purchase from, and sell energy and capacity to, qualifying facilities (QFs). In 2019 the Commission revised its regulations in 18 CFR 292.309-292.313 in Docket No. RM19-15-000 to account for industry changes. These industry changes include: The decrease in reliance on oil and natural gas, the increase of natural gas supply due to access of shale reserves, and the decreasing costs of renewable energy sources. Due to the modifications in the rulemaking, the Commission revised its information collection requirements. The Commission now collects the following information on FERC Form 912:

¹ Public Law 109-58, 119 Stat. 594 (2005).

• § 292.310: An electric utility's application for the termination of its obligation to purchase energy from a QF,

• § 292.311: An affected entity or person's application to the Commission for an order reinstating the electric utility's obligation to purchase energy from a QF,

• § 292.312: An electric utility's application for the termination of its obligation to sell energy and capacity to QFs, and

• § 292.313: An affected entity or person's application to the Commission for an order reinstating the electric utility's obligation to sell energy and capacity to QFs.²

² 18 CFR 292.311 and 292.313.

Type of Respondents: Electric utilities.

Estimate of Annual Burden: ³ The Commission estimates the total Public Reporting Burden and cost for this information collection as follows:

³ Burden as the total time, effort, or financial resources expended by persons to generate, maintain, retain, or disclose or provide information to or for a Federal agency. For further explanation of what is included in the information collection burden, refer to Title 5 Code of Federal Regulations 1320.3.

FERC-912 (IC22-9-000): Cogeneration and Small Power Production, PURPA Section 210(m) Regulations for Termination or Reinstatement of Obligation To Purchase or Sell
| Number of respondents | Number of responses per respondent | Total number of responses | Average burden hours and average cost per response ($) ⁴ | Total annual burden hours and total annual cost ($) | Cost per respondent ($)
| (1) | (2) | (1) × (2) = (3) | (4) | (3) × (4) = (5) | (5) ÷ (1) = (6)
Termination of obligation to purchase | 10 | 1.5 | 15 | 12, $1,044 | 180, $15,660 | $1,566
Reinstatement of obligations to purchase | 0 | 0 | 0 | 0, $0 | 0, $0 | 0
Termination of obligation to sell | 2 | 1 | 2 | 8, $696 | 16, $1,392 | 696
Reinstatement of obligation to sell | 0 | 0 | 0 | 0, $0 | 0, $0 | 0
Total |  |  |  |  | 196 hours, $17,052 | 2,262

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁴ The estimates for cost per response are derived using the following formula: Average Burden Hours per Response * $87.00 per Hour = Average Cost per Response. The hourly cost figure comes from the FERC average salary ($180,702/year). Commission staff believes the 2021 FERC average salary to be a representative wage for industry respondents.

Dated: March 23, 2022.
Kimberly D. Bose,
Secretary.

[FR Doc. 2022-06573 Filed 3-28-22; 8:45 am]

BILLING CODE 6717-01-P